ENVIRONMENTAL PROTECTION AGENCY

[FRL-8560-5]

Notice of Open Meeting, Environmental Financial Advisory Board (EFAB), Workshop on Financial Assurance

AGENCY: Environmental Protection Agency (EPA).

ACTION: Notice.

SUMMARY: The United States Environmental Protection Agency's Environmental Financial Advisory Board will hold an open meeting of its Financial Assurance Project Workgroup.

EFAB is chartered with providing analysis and advice to the EPA Administrator and EPA program offices on issues relating to environmental finance. The purpose of this meeting is for the EFAB to gather information and ideas with respect to the use of insurance as a financial assurance tool in EPA programs. The day will be structured to address this issue via a series of presentations and panel discussions involving Federal environmental officials, State insurance regulators, insurance underwriters, insurance industry professionals, and State environmental regulators.

The meeting is open to the public with seating available on a first come first served basis. Due to building security requirements, all members of the public who wish to attend the meeting must register in advance no later than Friday, June 6, 2008.

DATES: June 17, 2008 from 8:30 a.m.-5 p.m.

ADDRESSES: EPA Region 2 Lower Manhattan Office, 290 Broadway, 30th Floor Conference Room, New York, NY 10007.

FOR FURTHER INFORMATION CONTACT: To register for the workshop or to obtain further information, contact Pamela Scott, U.S. EPA, EFAB Staff, at 202-564-6368 or scott.pamela@epa.gov.

For information on access or services for individuals with disabilities, please contact Pamela Scott at 202-564-6368 or scott.pamela@epa.gov. To request accommodation of disability, please contact Pamela Scott, preferably at least 10 days prior to the meeting, to give EPA as much time as possible to process your request.

Dated: April 24, 2008.
Terry Ouverson,
Acting Director, Office of Enterprise Technology and Innovation.

[FR Doc. E8-9607 Filed 4-30-08; 8:45 am]

BILLING CODE 6560-50-P